DEPARTMENT OF TRANSPORTATION

Federal Aviation Administration

Second Meeting, Special Committee 212, Helicopter Terrain Awareness and Warning System (HTWAS)

AGENCY: Federal Aviation Administration (FAA), DOT.

ACTION: Notice of RTCA Special Committee 212, Helicopter Terrain Awareness and Warning System (HTWAS).

SUMMARY: The FAA is issuing this notice to advise the public of RTCA Special Committee 212, Helicopter Terrain Awareness and Warning System (HTWAS).

DATES: The meeting will be held January 25, 2007, from 9 a.m.-11 a.m.

ADDRESSES: The meeting will be held at EADS North America, 1616 N. Fort Myer Drive, Suite 1600, Arlington, VA 22209.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 212 meeting. The agenda will include:

• January 25:

• Opening Planary Session (Welcome, Introductions, and Administrative Remarks, Secretary Selection, Agenda Overview).

• Summary of Working Group Activities.

• KSN Server.

• Presentation on TAWS (Previous Terrain Awareness and Warning System).

• Closing Plenary Session (Other Business, Establish Agenda, Date and Place of Next Meeting, Adjourn).

Attendance is open to the interested public but limited to space availability. Pre-Registration for this meeting is not required for attendance but is desired and can be done through the RTCA secretariat. With the approval of the chairmen, members of the public may present oral statements at the meeting. Persons wishing to present statements or obtain information should contact the person listed in the FOR FURTHER INFORMATION CONTACT section. Members of the public may present a written statement to the committee at any time.

Issued in Washington, DC, on December 14, 2006.
Francisco Estrada C.,
RTCA Advisory Committee.

[FR Doc. 06-9859 Filed 12-26-06; 8:45 am]

BILLING CODE 4910-13-M